DEPARTMENT OF STATE

[Public Notice: 10014]

U.S. National Commission for UNESCO Notice of New Date for Teleconference Meeting

The U.S. National Commission for UNESCO conference call that was announced to occur on Friday, June 9, 2017 from 11:00 a.m. until 12:00 p.m. Eastern Daylight Time, has been rescheduled to Monday, June 19 from 11:00 a.m. to 12:00 p.m. Eastern Daylight Time. This will be a single issue, technical teleconference meeting to consider the recommendations of the Commission's National Committee for the Intergovernmental Oceanographic Commission (IOC). There will be no other items on the agenda. The Commission will accept brief oral comments during a portion of this conference call. The public comment period will be limited to approximately 10 minutes in total, with two minutes allowed per speaker. For more information, or to arrange to participate in the conference call, individuals must make arrangements with the Executive Director of the National Commission by June 16, 2017.

The National Commission may be contacted via email at DCUNESCO@state.gov or telephone (202) 663-2407.

Paul Mungai,
Acting Executive Director, U.S. National Commission for UNESCO, Department of State.

[FR Doc. 2017-11265 Filed 5-31-17; 8:45 am]

BILLING CODE 4710-19-P